COMMITTEE FOR PURCHASE FROM PEOPLE WHO ARE BLIND OR SEVERELY DISABLED

Procurement List; Proposed deletions

AGENCY: Committee for Purchase From People Who Are Blind or Severely Disabled.

ACTION: Proposed deletions from the procurement list.

SUMMARY: The Committee is proposing to delete products and services from the Procurement List that were furnished by nonprofit agencies employing persons who are blind or have other severe disabilities.

DATES: Comments must be received on or before: October 27, 2019.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSNs—Product Names:

7510-01-435-9775—Micro-Cell Stamp Pad, Size #1 2¾″ × 4½″, Red

7510-01-435-9776—Micro-Cell Stamp Pad, Size #1, 2¾″ × 4½″, Black

7510-01-435-9777—Micro-Cell Stamp Pad, Size #2, 3¼″ × 6¼″, Red

7510-01-435-9778—Micro-Cell Stamp Pad, Size #2, 3¼″ × 6¼″, Black

Mandatory Source of Supply: Cattaraugus County Chapter, NYSARC, Olean, NY

Contracting Activity: GSA/FAS Admin Svcs Acquisition Br(2, New York, NY)

Services

Service Type: Custodial service, Grounds Maintenance Service

Mandatory for: Salmon Airbase, 8 Industrial Lane, USFS, Salmon, ID

Mandatory Source of Supply: Development Workshop, Inc., Idaho Falls, ID

Contracting Activity: Forest Service, Caribou-Targhee National Forest

Service Type: Janitorial/Custodial

Mandatory for: Veterans Affairs Outpatient Clinic, Sacramento, CA

Mandatory Source of Supply: Easter Seal Society of Superior California, Sacramento, CA

Contracting Activity: Veterans Affairs, Department of, NAC

Service Type: Mailroom Operation

Mandatory for: Immigration and Naturalization Service: Administrative Center & Western Operations Region, Laguna Niguel, CA

Contracting Activity: Office of Policy, Management, and Budget, NBC Acquisition Services Division

Service Type: Administrative/General Support Services

Mandatory for: Minerals Management Service, DOI, Herndon, VA

Mandatory Source of Supply: ServiceSource, Inc., Oakton, VA

Contracting Activity: Office of Policy, Management, and Budget, NBC Acquisition Services Division

Service Type: Operation of Postal Service Center

Mandatory for: Bolling Air Force Base, Washington, DC

Mandatory Source of Supply: ServiceSource, Inc., Oakton, VA

Contracting Activity: Dept of the Air Force, FA7012 11 CONS LGC

Service Type: Grounds Maintenance

Mandatory for: USACE Bayou Boeuf & Berwick Locks-East/West Calumet & Charenton Floodgates, Morgan City Vicinity, LA

Mandatory Source of Supply: Goodworks, Inc., New Orleans, LA

Contracting Activity: Dept of the Army, W07V ENDIST N Orleans

Service Type: Guard Services

Mandatory for: U.S. Coast Guard-Mayport: 4200 Ocean Street, Mayport, FL

Mandatory Source of Supply: GINFL Services, Inc., Jacksonville, FL

Contracting Activity: U.S. Coast Guard, U.S. Coast Guard

Service Type: Custodial Services

Mandatory for: Illinois Military Academy: 1301 North MacArthur Road, Springfield, IL

Mandatory Source of Supply: United Cerebral Palsy of the Land of Lincoln, Springfield, IL

Contracting Activity: Dept of Defense, DOD/OFF of Secretary of Def (EXC MIL Depts)

Service Type: Grounds Maintenance

Mandatory for: Corpus Christi Resident Office, USACE (SAO), 1920 N. Chaparral St., Corpus Christi, TX

Mandatory Source of Supply: Training, Rehabilitation, & Development Institute, Inc., San Antonio, TX

Contracting Activity: Dept of the Army, W076 ENDIST Galveston

Service Type: Custodial Services

Mandatory for: USDA, Animal and Plant Health Inspection Service: 67 Thomas Johnson Drive, Frederick, MD

Mandatory Source of Supply: NW Works, Inc., Winchester, VA

Contracting Activity: Animal and Plant Health Inspection Service, USDA APHIS MRPBS

Service Type: Custodial Services

Mandatory for: USDA, Animal and Plant Health Inspection Service: 69 Thomas Johnson Drive, Frederick, MD

Mandatory Source of Supply: NW Works, Inc., Winchester, VA

Contracting Activity: Animal and Plant Health Inspection Service, USDA APHIS MRPBS

Service Type: Janitorial/Custodial

Mandatory for: Douglas Station Post Office: 904 Third Street, Douglas, AK

Mandatory Source of Supply: REACH, Inc., Juneau, AK

Contracting Activity: U.S. Postal Service, Washington, DC

Service Type: Janitorial/Custodial

Mandatory for: U.S. Coast Guard Cutter Aspen: Yerba Buena Island, San Francisco, CA

Mandatory Source of Supply: Toolworks, Inc., San Francisco, CA

Contracting Activity: U.S. Coast Guard, Base Alameda

Service Type: Administrative Services

Mandatory for: U.S. Customs Service Academy, Glynco, GA

Mandatory Source of Supply: Challenge Enterprises of North Florida, Inc., Green Cove Springs, FL

Contracting Activity: Bureau of Customs and Border Protection, National Acquisition Center

Service Type: Custodial Services

Mandatory for: Caribou-Targhee National Forest, St. Anthony Supervisor's Office, USFS, St. Anthony, ID

Mandatory Source of Supply: Development Workshop, Inc., Idaho Falls, ID

Contracting Activity: Forest Service, Caribou-Targhee National Forest

Service Type: Grounds Maintenance

Mandatory for: USDA, Southern Plains Agriculture Research Center: 2881 F&B Road, College Station, TX

Mandatory Source of Supply: World Technical Services, Inc., San Antonio, TX

Contracting Activity: Agricultural Research Service, Dept of AGRIC/Agricultural Research Service

Service Type: Vehicle Retrofitting Srvc limited to FPI surplus

Mandatory for: Retrofit Facility (Prime Contract): Bremerton, WA

Mandatory Source of Supply: Skookum Educational Programs, Bremerton, WA

Contracting Activity: Bureau of Customs and Border Protection, SBI Acquisition Office

Service Type: Janitorial/Grounds Maintenance

Mandatory for: Oxnard Border Patrol Station, Camarillo, CA

Mandatory Source of Supply: The ARC of Ventura County, Inc., Ventura, CA

Contracting Activity: U.S. Immigration and Customs Enforcement, Detention Management—Laguna Office

Service Type: Custodial Services

Mandatory for: U.S. Coast Guard Marine Safety Office: 9640 Clinton Drive, Galena, TX

Mandatory Source of Supply: On Our Own Services, Inc., Houston, TX

Contracting Activity: U.S. Coast Guard, U.S. Coast Guard

Service Type: Reception Service Support

Mandatory for: Fort Bragg, Fort Bragg, NC

Mandatory Source of Supply: Employment Source, Inc., Fayetteville, NC

Contracting Activity: Dept of the Army, W6QM MICC FDO FT BRAGG

Service Type: Reception Service Support

Mandatory for: Fort Campbell, Fort Campbell, KY

Mandatory Source of Supply: Employment Source, Inc., Fayetteville, NC

Contracting Activity: Dept of the Army, W6QM MICC FDO FT BRAGG

Service Type: Reception Service Support

Mandatory for: Fort Hood, Fort Hood, TX

Mandatory Source of Supply: Professional Contract Services, Inc., Austin, TX

Contracting Activity: Dept of the Army, W6QM MICC FDO FT BRAGG

Service Type: Reception Service Support

Mandatory for: Fort Bliss, Fort Bliss, TX

Mandatory Source of Supply: Tresco, Inc., Las Cruces, NM

Contracting Activity: Dept of the Army, W6QM MICC FDO FT BRAGG

Service Type: Reception Service Support

Mandatory for: Fort Sill, Fort Sill, OK

Mandatory Source of Supply: Work Services Corporation, Wichita Falls, TX

Contracting Activity: Dept of the Army, W6QM MICC FDO FT BRAGG

Service Type: Reception Service Support

Mandatory for: Fort Lewis, Fort Lewis, WA

Mandatory Source of Supply: Skookum Educational Programs, Bremerton, WA

Contracting Activity: Dept of the Army, W6QM MICC FDO FT BRAGG

Service Type: Disposal Support Services

Mandatory for: Hill Air Force Base: Defense Reutilization and Marketing Office, Hill Air Force Base, UT

Mandatory Source of Supply: EnableUtah, Ogden, UT

Contracting Activity: Dept of Defense, DOD/OFF of Secretary of Def (EXC MIL Depts)

Service Type: Laundry Service

Mandatory for: Whidbey Island Naval Air Station: Naval Hospital, Oak Harbor, WA

Mandatory Source of Supply: Northwest Center, Seattle, WA

Contracting Activity: Dept of the Navy, NAVSUP FLT LOG CTR Puget Sound

Service Type: Grounds Maintenance

Mandatory for: Marine Corps Support Activity: Richards-Gebaur Memorial Airport, Kansas City, MO

Mandatory Source of Supply: JobOne, Independence, MO

Contracting Activity: Dept of the Navy, U.S. Fleet Forces Command

Service Type: Custodial service

Mandatory for: Eastern ARNG Aviation Training Site, Capital City Airport Hanger 2, New Cumberland, PA

Mandatory Source of Supply: Opportunity Center, Incorporated, Wilmington, DE

Contracting Activity: Dept of the Army, W7NX USPFO Activity PA ARNG

Service Type: Janitorial/Custodial

Mandatory for: Segura U.S. Army Reserve Center: 301 Ascarate Park Road, El Paso, TX

Mandatory Source of Supply: Let's Go To Work, El Paso, TX

Contracting Activity: Dept of the Army, W6QM MICC-PRESIDIO (RC-W)

Patricia Briscoe,
Deputy Director, Business Operations (Pricing and Information Management).

[FR Doc. 2019-20995 Filed 9-26-19; 8:45 am]

BILLING CODE 6353-01-P